DEPARTMENT OF THE INTERIOR

Bureau of Reclamation

Windy Gap Firming Project; Colorado—Big Thompson Project, Grand and Larimer Counties, CO

AGENCY: Bureau of Reclamation, Interior.

ACTION: Notice for Extension of the Public Comment Period for the Draft Environmental Impact Statement (Draft EIS).

SUMMARY: The Bureau of Reclamation is announcing a 62-day extension of the public comment period for the Windy Gap Firming Project Draft Environmental Impact Statement. The originally announced comment period ends on October 28, 2008, but has been extended until December 29, 2008. The original Notice of Availability of the Draft Environmental Impact Statement (Draft EIS) and Announcement of Public Hearings was published in the Federal Register (73 FR 50999) on August 29, 2008.

DATES: Comments on the Draft EIS should be postmarked no later than December 29, 2008.

ADDRESSES: Comments on the Draft EIS should be sent to the attention of: Will Tully, Bureau of Reclamation, 11056 West County Rd. 18E, Loveland, CO 80537.

FOR FURTHER INFORMATION CONTACT: Kara Lamb at 970-962-4326 or klamb@gp.usbr.gov or Will Tully at 970-962-4368 or wtully@gp.usbr.gov. Mail requests should be addressed to the Bureau of Reclamation at the address indicated in the ADDRESSES section.

SUPPLEMENTARY INFORMATION:

Public Disclosure Statement

Before including your name, address, phone number, e-mail address, or other personal identifying information in your comment, you should be aware that your entire comment—including your personal identifying information—may be made publicly available at any time. While you can ask us in your comment to withhold your personal identifying information from public review, we cannot guarantee that we will be able to do so.

Dated: October 27, 2008.
Roxanne E. Peterson,
Acting Assistant Regional Director, Great Plains Region.

[FR Doc. E8-26011 Filed 10-30-08; 8:45 am]

BILLING CODE 4310-MN-P